INTERNATIONAL TRADE COMMISSION

[Investigation No. 731-TA-1145 (Final)]

Certain Steel Threaded Rod From China Determination

On the basis of the record ¹ developed in the subject investigation, the United States International Trade Commission (Commission) determines, pursuant to section 735(b) of the Tariff Act of 1930 (19 U.S.C. 1673d(b)) (the Act), that an industry in the United States is materially injured by reason of imports from China of certain steel threaded rod, provided for in subheading 7318.15.50 of the Harmonized Tariff Schedule of the United States, that have been found by the Department of Commerce (Commerce) to be sold in the United States at less than fair value (LTFV).

¹ The record is defined in section 207.2(f) of the Commission's Rules of Practice and Procedure (19 CFR 207.2(f)).

Background

The Commission instituted this investigation effective March 5, 2008, following receipt of a petition filed with the Commission and Commerce by Vulcan Threaded Products, Pelham, AL. The final phase of the investigation was scheduled by the Commission following notification of a preliminary determination by Commerce that imports of certain steel threaded rod from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of November 21, 2008 (73 FR 70671). The hearing was held in Washington, DC, on February 25, 2009, and all persons who requested the opportunity were permitted to appear in person or by counsel.

The Commission transmitted its determination in this investigation to the Secretary of Commerce on April 6, 2009. The views of the Commission are contained in USITC Publication 4070 (April 2009), entitled Certain Steel Threaded Rod From China: Investigation No. 731-TA-1145 (Final).

Issued: April 6, 2009.
By order of the Commission.
Marilyn R. Abbott,
Secretary to the Commission.

[FR Doc. E9-8155 Filed 4-9-09; 8:45 am]

BILLING CODE 7020-02-P